ENVIRONMENTAL PROTECTION AGENCY

[FRL OP-OFA-005]

Environmental Impact Statements; Notice of Availability

Responsible Agency: Office of Federal Activities, General Information 202-564-5632 or https://www.epa.gov/nepa.

Weekly receipt of Environmental Impact Statements (EIS)

Filed February 14, 2022 10 a.m. EST Through February 18, 2022 10 a.m. EST

Pursuant to 40 CFR 1506.9.

Notice: Section 309(a) of the Clean Air Act requires that EPA make public its comments on EISs issued by other Federal agencies. EPA's comment letters on EISs are available at: https://cdxnodengn.epa.gov/cdx-enepa-public/action/eis/search.

EIS No. 20220018, Final, CHSRA, CA, California High-Speed Rail: San Jose to Merced Project Section Final Environmental Impact Report/Environmental Impact Statement, Review Period Ends: 03/28/2022, Contact: Scott Rothenberg 916-403-6936.

EIS No. 20220019, Final, DOD, ID, Construction and Demonstration of a Prototype Mobile Microreactor, Review Period Ends: 03/28/2022, Contact: Jeff Waksman 703-812-1980.

EIS No. 20220020, Final, USFS, CA, Social and Ecological Resilience Across the Landscape (SERAL), Review Period Ends: 03/28/2022, Contact: Kathryn Wilkinson 209-288-6321.

Dated: February 18, 2022.
Cindy S. Barger,
Director, NEPA Compliance Division, Office of Federal Activities.

[FR Doc. 2022-03999 Filed 2-24-22; 8:45 am]

BILLING CODE 6560-50-P